FEDERAL COMMUNICATIONS COMMISSION

47 CFR Parts 1 and 54

[CC 96-45; FCC 01-376]

Implementation of Interim Filing Procedures for Filings of Requests for Review

AGENCY: Federal Communications Commission.

ACTION: Temporary procedural requirements.

SUMMARY: In this document, the Commission waives its procedures for filing requests for review from decisions of the Universal Service Administrative Company (Administrator) and petitions for reconsideration and applications for review that arise from such proceedings and establishes the following interim procedures. We extend the period for filing a request for review, or applications for review arising from such proceedings, from the current 30 day period to 60 days, provide applicants with the option of electronic filing (via either electronic mail or facsimile) for requests for review and petitions for reconsideration or applications for review that arise from such proceedings, and provide parties that have mailed such pleadings on or after September 12, 2001 with an opportunity to refile their pleadings electronically. These measures will help to ensure continued timely processing of such filings and to avoid prejudice to parties as a result of the recent disruptions in mail service.

EFFECTIVE DATE: January 24, 2002.

FOR FURTHER INFORMATION CONTACT: Peter Trachtenberg, (202) 418-7369.

SUPPLEMENTARY INFORMATION: This Order, adopted December 20, 2001, and released December 26, 2001, will be available for public inspection during regular business hours at the FCC Reference Information Center, Room CY-A257, at the Federal Communications Commission, 445 12th St., S.W., Washington, DC 20554. The complete text is available through the Commission's duplicating contractor: Qualex International, Portals II, 445 12th Street, SW., Room CY-B402, Washington, DC 20554, telephone 202-863-2893, facsimile 202-863-2898, or via e-mail at qualexint@aol.com.

Synopsis of Order

1. Effective upon publication in the Federal Register and until further notice, we waive our filing procedures and establish the following procedures on an interim, emergency basis. First, requests for review filed pursuant to §§ 54.719 through 54.725, 47 CFR 54.719 through 54.725, and any applications for review arising from such proceedings shall be filed within 60 days of the issuance of the decision being reviewed. This 60-day period will be applicable to all such pleadings that were required to be filed on or after September 12, 2001 and were received by the Commission on or after September 12, 2001. Second, parties filing requests for review, or petitions for reconsideration or applications for review of decisions on requests for review, may, at their option, file their pleadings electronically, either by electronic mail or facsimile.

2. If filed by electronic mail, pleadings shall be filed at the following e-mail address: CCBSecretary@fcc.gov. Documents filed via electronic mail may be submitted in Adobe Portable Document Format (PDF), Word, WordPerfect, or any other widely used word processing format. The Commission will automatically reply to all incoming e-mails to confirm receipt. If filed by facsimile, pleadings shall be faxed to 202-418-0187. The fax transmission should include a cover sheet listing contact name, phone number, and, if available, an e-mail address. Pleadings submitted by electronic mail will be considered filed on a business day if they are received at the Commission on that day at any time up to 12:00 a.m. Pleadings received after that time will be considered received on the next business day. Similarly, facsimile transmissions will be considered filed on a business day if the complete transmission is received by any time up to 12:00 a.m.

3. We further provide that pleadings of the type described in paragraph 1 above that were due on or after September 12, 2001 and that were submitted by non-electronic means between September 12, 2001 and the effective date of this order may be refiled electronically within 30 days of the effective date of this order in accordance with the procedures specified in the preceding paragraph. Pleadings filed electronically pursuant to this paragraph shall be accompanied by a signed affidavit or a declaration pursuant to Commission rule § 1.16 stating that the previously filed pleading was timely filed, and providing the date the pleading was originally mailed to the Commission, and by what means. For this purpose only, the original pleading will be considered filed as of the date that it was mailed.

4. Accordingly, it is ordered that, pursuant to the authority of sections 4(i) of the Communications Act of 1934, as amended, 47 U.S.C. 154 (i), the Commission ADOPTS the procedural requirements set forth in this order and WAIVES any contrary requirements.

5. It is further ordered that the waiver shall become effective upon publication in the Federal Register.

Federal Communications Commission.
William F. Caton,
Deputy Secretary.

[FR Doc. 02-1601 Filed 1-23-02; 8:45 am]

BILLING CODE 6712-01-U